DEPARTMENT OF AGRICULTURE

Rural Housing Service

Rural Business—Cooperative Service

Rural Utilities Service

Farm Services Agency

7 CFR Part 1955

Management of Property

AGENCIES: Rural Housing Service, Rural Business—Cooperative Service, Rural Utilities Service and Farm Service Agency, USDA.

ACTION: Final rule.

SUMMARY: The Rural Housing Service (RHS) is amending this regulation to remove an incorrect reference. The intended effect of this change is to ensure that Agency regulations continue to provide current information.

DATES: Effective Date: April 21, 2005.

FOR FURTHER INFORMATION CONTACT: Brinder Billups, Chief, Policy and Program Management Branch, Procurement Management Division, Rural Development, U.S. Department of Agriculture, Stop 0741, 1400 Independence Avenue, SW., Washington, DC 20250-0741, Telephone: (202) 692-0247.

SUPPLEMENTARY INFORMATION:

Classification

This action is not subject to the provisions of Executive Order (E.O.) 12866 since it involves only internal Agency management. This action is not published for prior notice and comment under the Administrative Procedure Act since it involves only internal Agency management and publication for comment is unnecessary and contrary to the public interest.

Programs Affected

The Catalog of Federal Domestic Assistance programs affected by this action are 10.406—Farm Operating Loans and 10.407—Farm Ownership Loans.

Intergovernmental Consultation

Programs with Catalog Federal Domestic Assistance numbers 10.406 and 10.407 are not subject to the provisions of E.O. 12372 which requires intergovernmental consultation with State and local officials.

Civil Justice Reform

This final rule has been reviewed under E.O. 12988, Civil Justice Reform. When published: (1) Unless otherwise specifically provided, all State and local laws that are in conflict with this rule will be preempted; (2) no retroactive effect will be given this rule except as specifically prescribed in the rule; and (3) administrative proceedings of the National Appeals Division (7 CFR part 11) must be exhausted before litigation against the Department is instituted.

Paperwork Reduction Act

There are no new reporting and recordkeeping requirements associated with this rule.

Unfunded Mandates Reform Act

Title II of the Unfunded Mandate Reform Act of 1995 (UMRA), Public Law (Pub. L.) 104-4, establishes requirements for Federal agencies to assess the effects of their regulatory actions on State, local, and tribal governments and the private sector. Under section 202 of the UMRA, Federal agencies generally must prepare a written statement, including cost-benefit analysis, for proposed and final rules with “Federal mandates” that may result in expenditures to State, local, or tribal governments, in the aggregate, or to the private sector, or $100 million or more in any 1 year. When such statement is needed for a rule, section 205 of the UMRA generally requires a Federal agency to identify and consider a reasonable number of regulatory alternatives and adopt the least costly, more cost-effective, or least burdensome alternative that achieves the objectives of the rule.

This rule contains no Federal mandates (under the regulatory provisions of Title II of the UMA) for State, local, and tribal governments or the private sector. Therefore, this rule is not subject to the requirements of sections 202 and 205 of the UMRA.

Environmental Impact Statement

This document has been reviewed in accordance with 7 CFR part 1940, subpart G, “Environmental Program.” It is the determination of RHS that the proposed action does not constitute a major Federal action significantly affecting the quality of the environment and in accordance with the National Environmental Policy Act of 1969, Public Law 91-190, an Environmental Impact Statement is not required.

Executive Order 13132, Federalism

The policies contained in this rule do not have any substantial direct effect on States, on the relationship between the National Government and the States, or on the distribution of power and responsibilities among the various levels of government. Nor does this rule impose a substantial direct compliance cost on State and local governments. Therefore, consultation with the States is not required.

List of Subjects in Part 1955

Government acquired property, Government property management.

Accordingly, Chapter XVIII, Title 7, Code of Federal Regulations, is amended as follows:

PART 1955—PROPERTY MANAGEMENT

1. The authority citation for part 1955 continues to read as follows:

Authority: 5 U.S.C. 301; 7 U.S.C. 1989; 42 U.S.C. 1480.

Subpart B—Management of Property

2. Section 1955.65 is amended by revising paragraph (c)(3) to read as follows:

§ 1955.65 Management of inventory and/or custodial real property.

* * * * *

(c) * * *

(3) Specification of services. All management contracts will provide for termination by either the contractor or the Government upon 30 days written notice. Contracts providing for management of multiple properties will also provide for properties to be added or removed from the contractor's assignment whenever necessary, such as when a property is acquired or taken into custody during the period of a contract or when a property is sold from inventory. If a contractor prepares repair specifications, that contractor will be excluded from the solicitation for making the repairs to avoid a conflict of interest.

If a management contract calls for specification writing services, a clause must be inserted in the contract prohibiting the preparer or his/her associates from doing the repair work.

* * * * *

Dated: April 4, 2005.
Gilbert Gonzalez,
Under Secretary, Rural Development.
Dated: April 11, 2005.
J.B. Penn,
Under Secretary, Farm and Foreign Agricultural Service.

[FR Doc. 05-7982 Filed 4-20-05; 8:45 am]

BILLING CODE 3410-XV-P